DEPARTMENT OF THE INTERIOR

National Park Service

[N6782; NPS-WASO-NAGPRA-NPS0041551; PPWOCRADN0-PCU00RP14.R50000]

Notice of Intended Repatriation: Buffalo Society of Natural Sciences, Buffalo Museum of Science, Buffalo, NY

AGENCY: National Park Service, Interior.

ACTION: Notice.

SUMMARY: In accordance with the Native American Graves Protection and Repatriation Act (NAGPRA), the Buffalo Society of Natural Sciences intends to repatriate certain cultural items that meet the definition of objects of cultural patrimony and that have a cultural affiliation with the Indian Tribes or Native Hawaiian organizations in this notice.

DATES: Repatriation of the cultural items in this notice may occur on or after January 20, 2026.

ADDRESSES: Send additional, written requests for repatriation of the cultural items in this notice to Kathryn H. Leacock, Buffalo Society of Natural Sciences, Buffalo Museum of Science, 1020 Humboldt Parkway, Buffalo, NY 14211, email kleacock@sciencebuff.org.

SUPPLEMENTARY INFORMATION: This notice is published as part of the National Park Service's administrative responsibilities under NAGPRA. The determinations in this notice are the sole responsibility of the Buffalo Society of Natural Sciences and additional information on the determinations in this notice, including the results of consultation, can be found in the summary or related records. The National Park Service is not responsible for the determinations in this notice.

Abstract of Information Available

A total of two cultural items have been requested for repatriation. The two objects of cultural patrimony are known as catalog numbers C4289 and C12934. Museum catalog records indicate that the first item (C4289) is an 'ahu'ula (feather cape). The feather cape was collected in 1893 and was donated to the Buffalo Society of Natural Sciences in 1923 by Mrs. G. Plimpton. The second item (C12934) is a lei niho palaoa (whale tooth pendant and hair necklace), Museum records do not indicate who collected the necklace.

Determinations

The Buffalo Society of Natural Sciences has determined that:

• The two objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Edith Kanaka'ole Foundation and Hui Iwi Kuamo'o.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 20, 2026. If competing requests for repatriation are received, the Buffalo Society of Natural Sciences must determine the most appropriate requestor prior to repatriation. Requests for joint repatriation of the cultural items are considered a single request and not competing requests. The Buffalo Society of Natural Sciences is responsible for sending a copy of this notice to the Indian Tribes and Native Hawaiian organizations identified in this notice and to any other consulting parties.

Authority: Native American Graves Protection and Repatriation Act, 25 U.S.C. 3004 and the implementing regulations, 43 CFR 10.9.

Dated: December 8, 2025.
Melanie O'Brien,
Manager, National NAGPRA Program.

[FR Doc. 2025-23354 Filed 12-18-25; 8:45 am]

BILLING CODE 4312-52-P